FEDERAL COMMUNICATIONS COMMISSION

47 CFR Part 73

[DA 00-2429; MM Docket No. 98-74; RM-9269, RM-9736]

Radio Broadcasting Services; Eatonville, Wenatchee, Moses Lake, Spokane, and Newport, WA

AGENCY: Federal Communications Commission.

ACTION: Final rule.

SUMMARY: The Commission, at the request of joint filers Barbara J. Geesman, licensee of Station KKBY-FM, Eatonville, Washington, Morris Communications, successor to Pioneer Broadcasting Company, Inc, licensee of Stations KKRV and KWIQ, Upper Columbia Media Association, licensee of Station KEEH, Spokane, Washington, James and Helen Stargel, licensee of Station KMJY, Newport, Washington, and Jeffrey Aaron Bruton, makes the following amendments to the FM Table of Allotments. (1) Channel 284C2 is substituted for Channel 285C2 at Wenatchee, Washington, and Station KKRV's license is modified at its present site 10.2 kilometers (6.3 miles) northeast of the community at coordinates 47-28-44 NL and 120-12-49 WL. (2) Channel 285C3 is substituted for Channel 285A at Eatonville, Washington, and Station KFNK's license is modified at its present site 6.4 kilometers (4 miles) southeast of the community at coordinates 46-50-19 NL and 122-11-53 WL. (3) Channel 262C is substituted for Channel 262C1 at Moses Lake, Washington, and Station KWIQ's license is modified at its present site 42.1 kilometers (26.2 miles) north of the community at coordinates 47-29-20 NL and 119-26-45 WL. (4) Channel 285C2 is substituted for Channel 284A at Spokane, Washington, and Station KEEH's license is modified at its present site 13.1 kilometers (8.2 miles) southeast of the community at coordinates 47-34-45 NL and 117-17-48 WL. (5) Channel 283C3 is substituted for Channel 285A at Newport, Washington, and Station KMJY's license is modified at its present site 2.2 kilometers (1.4 miles) southeast of the community at coordinates 48-09-37 NL and 117-01-49 WL. See Supplementary Information.

DATES: Effective December 11, 2000.

FOR FURTHER INFORMATION CONTACT: Victoria M. McCauley, Mass Media Bureau, (202) 418-2180.

SUPPLEMENTARY INFORMATION: This is a synopsis of the Commission's Report and Order, MM Docket No. 98-74, adopted October 18, 2000, and released October 27, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

Since Eatonville, Wenatchee, Moses Lake, Spokane and Newport are within 320 kilometers (200 miles) of the U.S.-Canadian border, we have requested concurrence of the Canadian government for the allotments at those communities. Concurrence has been received for Eatonville, Moses Lake, Spokane and Newport. Concurrence for the allotment at Wenatchee has been requested but not yet received. Any construction permit for Channel 284C2 at Wenatchee that is granted prior to the receipt of formal concurrence of the Canadian Government will include the following condition: “Operation with the facilities specified herein is subject to modification, suspension, or termination without right to hearing if specifically objected to by Industry Canada. This condition will be removed once formal approval for the allotment is received from Industry Canada.”

List of Subjects in 47 CFR Part 73

Radio broadcasting.

Part 73 of title 47 of the Code of Federal Regulations is amended as follows:

47 CFR PART 73—RADIO BROADCAST SERVICES

1. The authority citation for part 73 continues to read as follows:

Authority: 47 U.S.C. 154, 303, 334 and 336.

§ 73.202 [Amended]

2. Section 73.202(b) the FM Table of Allotments under Washington is amended by removing Channel 285C2 at Wenatchee and adding 284C2, removing Channel 285A at Eatonville and adding 285C3, removing Channel 262C1 at Moses Lake and adding Channel 262C, removing Channel 284A at Spokane and adding Channel 285C2 and removing Channel 285A at Newport and adding Channel 283C3.

Federal Communications Commission.

John A. Karousos,
Chief, Allocations Branch, Policy and Rules Division, Mass Media Bureau.

[FR Doc. 00-28888 Filed 11-9-00; 8:45 am]

BILLING CODE 6712-01-P